POSTAL SERVICE

39 CFR Part 111

Post Office (PO) Box Fee Groups for Merged Locations

AGENCY: Postal Service™.

ACTION: Final rule.

SUMMARY: The Postal Service will revise Mailing Standards of the United States Postal Service, Domestic Mail Manual (DMM®) 508.4 to allow Post Office Box™ (PO Box™) fee groups to be merged due to Post Office™ mergers and to have the ability to change a fee group more than one higher or lower level at a time in limited circumstances.

DATES: Effective Date: November 7, 2011.

FOR FURTHER INFORMATION CONTACT: Nan McKenzie at 202-268-3089, David Rubin at 202-268-2986, or Richard Daigle at 202-268-6392.

SUPPLEMENTARY INFORMATION: On July 12, 2011, the Federal Register published our proposed rule (76 FR 40849-40850), requesting comments to allow the Postal Service to change the fee group assignment for PO Boxes by more than one level (higher or lower) when boxes move to a different ZIP Code™ location because of a merger of two or more ZIP Code locations into a single location.

Current mailing standards limit changes for a PO Box fee group assignment for a 5-digit ZIP Code to one level higher or lower, and only once per calendar year. Absent this change, where a box section is merged with a location whose box section is more than one fee group level different, the location would need to charge two different fee groups. This final rule will allow the fee group of the merged (receiving) location to apply to all customers receiving PO Box service in that location. This rule does not affect the standards for Group E PO Box eligibility.

Also, prior to any such merger, existing PO Box customers will have the option to renew their box rentals at their current fees for another period, even if the resulting fee will have been paid for more than one year in advance.

No comments were received on the proposed rule.

The Postal Service adopts the following changes to the Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

508 Recipient Services

* * * * *

4.0 Post Office Box Service

* * * * *

4.5 Basis of Fees and Payment

* * * * *

4.5.3 Fee Changes

[Revise 4.5.3 as follows:]

A change in Post Office Box service fees applicable to a 5-digit ZIP Code can arise from a general fee change. In addition, the USPS may assign a fee group to a new ZIP Code, may reassign one or more 5-digit ZIP Codes to the next higher or lower fee group if fee group assignments were in error, or may regroup 5-digit ZIP Codes. Except when boxes from two or more ZIP Codes are being merged into one location, a ZIP Code may be moved only into the next higher or lower fee group. If boxes in two or more ZIP Codes merge, the fee group will be that of the receiving location, even if one of the fee groups changes by more than one level. No ZIP Code may be moved into a different fee group more than once a calendar year. A change in Post Office Box service fees takes effect on the date of the action that caused the change unless an official announcement specifies another date. If Post Office Box service fees are increased, no customer must pay the new price until the end of the current service period, and no retroactive adjustment will be made for a payment received before the date of the change. The fee charged is that in effect on the date of payment.

4.5.4 Payment

[Revise the introductory text of 4.5.4 as follows:]

All fees for Post Office Box service are for 6- or 12-month prepaid periods, except as noted under 4.5.6, 4.5.7, and 4.5.10. The general rule is that a fee may be paid up to one year in advance; however, when boxes from two or more ZIP Codes are being merged into one location, a customer has the option, prior to the merger, to renew at the current fee for another rental period, even when this results in a fee being paid more than one year in advance. Customers may pay the fee using any of the following methods:

* * * * *

4.5.5 Payment Period

[Revise 4.5.5 as follows:]

Except under 4.5.7, the beginning date for a Post Office Box fee payment period is determined by the approval date of the application. The period begins on the first day of the same month if the application is approved on or before the 15th of the month, or the next month if approved after the 15th of the month. Fees for service renewal may be paid any time during the last 30 days of the service period, except under 4.5.4, but no later than the last day of the service period.

* * * * *

4.5.8 Change of Payment Period

[Revise 4.5.8 as follows:]

Except for customers at Post Offices subject to 4.5.7, a Post Office Box customer of record may change the payment period by submitting a new application noting the month to be used as the start of the revised payment period. The date selected must be before the end of the current payment period. The unused fee for the period being discontinued may be refunded under 4.7, and the fee for the new payment period must be fully paid in advance. Except when boxes from two or more ZIP Codes are being merged into one location, a change of payment period date must not be used to circumvent a change in box fees.

* * * * *

4.6 Fee Group Assignments

4.6.1 Regular Fee Groups

[Revise 4.6.1 as follows:]

For Post Office Box fee groups, see Notice 123—Price List. Post Office Boxes are assigned to fee groups and classified as competitive or market dominant based upon the Post Office location. Local Post Offices can provide information about fees for a particular ZIP Code.

* * * * *

We will publish an appropriate amendment to 39 CFR Part 111 to reflect these changes.

Stanley F. Mires,
Chief Counsel, Legislative.

[FR Doc. 2011-22628 Filed 9-2-11; 8:45 am]

BILLING CODE 7710-12-P